DEPARTMENT OF AGRICULTURE

Agricultural Marketing Service

[Doc. No. AMS-FGIS-22-0020]

Award of Designations and Designation Amendments to Class X or Class Y Weighing Services Under the United States Grain Standards Act

AGENCY: Agricultural Marketing Service, USDA.

ACTION: Notice of designation awards.

SUMMARY: The Agricultural Marketing Service (AMS) is announcing designation awards of Amarillo Grain Exchange, Inc. (Amarillo); J.W. Barton Grain Inspection Service, Inc. (Barton); Cairo Grain Inspection Agency, Inc. (Cairo); Champaign-Danville Grain Inspection Departments, Inc. (Champaign); Detroit Grain Inspection Service, Inc. (Detroit); Eastern Iowa Grain Inspection and Weighing Service, Inc. (Eastern Iowa); Enid Grain Inspection Company, Inc. (Enid); Farwell Commodity and Grain Services, Inc. (Farwell Southwest); Fremont Grain Inspection Department, Inc. (Fremont); Keokuk Grain Inspection Service (Keokuk); Louisiana Department of Agriculture and Forestry (Louisiana); Michigan Grain Inspection Services, Inc. (Michigan); Omaha Grain Inspection Service, Inc. (Omaha); Maryland Department of Agriculture (Maryland); North Carolina Department of Agriculture (North Carolina); North Dakota Grain Inspection Services, Inc. (North Dakota); Northeast Indiana Grain Inspection, Inc. (Northeast Indiana); Northern Plains Grain Inspection Service, Inc. (Northern Plains); Plainview Grain Inspection and Weighing Service, Inc. (Plainview); D. R. Schaal Agency, Inc. (Schaal); Sioux City Inspection and Weighing Service Company (Sioux City); State Grain Inspection, Inc. (State Grain); and Utah Department of Agriculture and Food (Utah) to provide official services under the United States Grain Standards Act (USGSA), as amended. The West Lafayette, Indiana area previously serviced by Titus Grain Inspection, Inc. (Titus), will now be serviced by two current official agencies: Champaign and North Dakota, as detailed below. AMS also announces that the designations of Plainview and Sioux City are amended to include Class X and Class Y weighing services.

FOR FURTHER INFORMATION CONTACT: Austyn Hughes, Telephone: (816) 891-0456, or Email: FGISQACD@usda.gov.

SUPPLEMENTARY INFORMATION: In the July 7, 2017, Federal Register (82 FR 30818), AMS announced the designation of Plainview to provide official services under the USGSA, effective April 1, 2017, to March 31, 2022. Subsequently, Plainview asked AMS to amend their designation to include official weighing services. The USGSA authorizes the Secretary to designate authority to perform official weighing to an agency providing official inspection services within a specified geographic area if such agency is qualified under 7 U.S.C. 79. Under 7 U.S.C. 79(a), AMS evaluated information regarding the designation criteria in 7 U.S.C. 79 and determined that Plainview is qualified to provide official weighing services in their currently assigned geographic area. Therefore, Plainview's designation is amended to include Class X or Class Y weighing within their assigned geographic area, effective January 1, 2022. Interested persons may obtain official services by contacting Plainview at (806) 293-1364.

In the July 15, 2020, Federal Register (85 FR 42819), AMS requested applications and public comment for designation to provide official services in the geographic area presently serviced by North Dakota.

In the February 22, 2021, Federal Register (86 FR 10530-10531), AMS requested applications and public comment for designation to provide official services in the geographic areas presently serviced by Champaign, Detroit, Eastern Iowa, Enid, Keokuk, Michigan, Omaha, Fremont, Maryland, Amarillo, Cairo, Louisiana, North Carolina, Schaal, and Utah.

In the October 21, 2021, Federal Register (86 FR 58247), AMS requested applications for designation and public comment on the quality of service provided by the official agencies in the geographic areas presently serviced by Northeast Indiana, State Grain, Barton, Farwell Southwest, Northern Plains, Plainview, and Sioux City.

The current official agencies for Amarillo; Barton; Cairo; Champaign; Detroit; Eastern Iowa; Enid; Farwell Southwest; Keokuk; Michigan; Omaha; Fremont; Louisiana; Maryland; Northeast Indiana; Northern Plains; North Carolina; North Dakota; Plainview; Schaal; State Grain; and Utah were the only applicants for designation to provide official services in the areas open for designation.

The official agency previously servicing the West Lafayette, Indiana, geographic area (Titus Grain Inspection, Inc. (Titus)) did not seek to reapply for this area. In the June 28, 2021, Federal Register, 86 FR 33967, AMS asked persons interested in providing official U.S. Grain Standards Act services in this geographic area to apply. This area was applied for by two applicants: Champaign-Danville Grain Inspection Departments (Champaign) and North Dakota Grain Inspection Service, Inc. (North Dakota), which both applied for the entire West Lafayette, Indiana territory. Both applicants are designated agencies in good standing with AMS and the industry.

In analyzing the applications for the West Lafayette, Indiana, geographic area, AMS evaluated the designation criteria in sec. 7(f) of the USGSA, a recent audit report for each applicant detailing the applicant's performance of the designation criteria and customers' experience with the official service provider, public comments received related to the designation opportunity notice, exceptions previously assigned to the geographic area being applied for, as well as details provided in the application. Applications generally include information on an applicant's business plan to service the area, active licenses and service availability, fees, overall service costs, and proximity to customers and facilities.

Both Champaign and North Dakota are meeting the designation criteria established under the USGSA, and are operating with comparable costs for most service requests. In consideration of this, AMS determined that splitting the West Lafayette, Indiana, geographic area between the two applicants is the best option. By splitting the geographic area between the applicants, and assigning them to the contiguous areas of their existing designations, they are better able to serve the new territory. Accordingly, each applicant is awarded a newly defined geographic area. The new area allows for an expansion of each applicant's existing geographic area without overlapping boundaries or isolating customers or territory within another official service provider's geographic area. Originally, the West Lafayette, Indiana, geographic area that was designated to Titus included permanent exceptions (designated grain elevators) that were located within both Champaign's and North Dakota's geographic areas. Now, all permanent exception locations originally designated to Titus are awarded to the applicant in whose geographic area the facilities are located.

The territory has been divided and awarded in part to two official agencies: Champaign-Danville Grain Inspection Department, Inc., and North Dakota Grain Inspection Service, Inc. Updated Appendix A geographic areas are listed below:

• Champaign-Danville Grain Inspection Department: In Indiana: Benton (east of U.S. Route 41), Jasper (south of U.S. Route 24), Newton (east of State Route 55 and south of U.S. Route 24), Pulaski; Warren (east of U.S. Route 41), and White Counties.

• North Dakota Grain Inspection Service, Inc.: In Indiana: Carroll (north of State Route 25), Fountain (east of U.S. Route 41), and Tippecanoe Counties.

In the October 22, 2021, notice published in the Federal Register (86 FR 58247), AMS asked persons interested in providing official U.S. Grain Standards Act services to the Sioux City, Iowa, designation area to apply. AMS received two applications for this area: Sioux City and Schaal. Sioux City applied for the entire geographic area, and Schaal applied for elevators that were designated under Sioux City as permanent exceptions but physically located within Schaal's geographic area description. Both applicants are designated agencies in good standing with AMS and the industry. The dually applied-for elevators include:

• In Iowa, Maxyield Coop—Algona, Kossuth County; Stateline Coop—Burt, Kossuth County; Gold-Eagle—Goldfield and North Central Coop—Holmes, Wright County; Agvantage F.S.—Chapin, Franklin County; and Five Star Coop—Rockwell, Cerro Gordo County.

In analyzing the applications for the Sioux City, Iowa, geographic area, AMS evaluated the designation criteria in sec. 7(f) of the USGSA, a recent audit report for each applicant detailing the applicant's performance of the designation criteria and customers' experience with the official service provider, public comments received related to the designation opportunity notice, and exceptions previously assigned to the geographic area being applied for, as well as details provided in the application. Applications generally include information on an applicant's business plan to service the area, active licenses and service availability, fees, overall service costs, and proximity to customers and facilities.

AMS determined that awarding the six specified elevator locations to Schaal and the remaining geographical area to the incumbent, Sioux City, is the best manner to continue servicing the area. Of the six elevator locations identified, only Stateline Coop and AgVantage FS are currently active. The six forementioned elevator locations are physically located within the boundaries of Schaal's geographic area description, since this designation area commenced as noted in the May 21, 1980, notice in the Federal Register, 45 FR 34245. However, these elevator locations were designated to other entities at the time the original geographic areas were assigned. Over the past four decades, the original servicing entities have changed and ultimately were replaced by Sioux City.

Through an FGIS pilot program in 1995, and per customer request, Schaal was permitted to service the two active elevators. Subsequently, the 2018 Appropriations Bill again affected how exceptions were managed, and Schaal was permitted to continue servicing those elevators under non-use-of-service exceptions as requested by its customers.

At the time the Sioux City, Iowa, designation area opportunity notice published, Sioux City was not providing official services for any of the six specified elevator locations located within Schaal's geographic area description. Current customers were satisfied with Schaal's service. Considering all available information and factors, as identified above, AMS determined that these excepted elevators would be awarded and designated to Schaal as applied for and as currently being serviced.

Effective April 1, 2022, these elevators were removed from Sioux City's designation area and added to Schaal's designation. The remaining geographic area was awarded to Sioux City effective April 1, 2022.

AMS evaluated the designation criteria in sec. 7(f) of the USGSA (7 U.S.C. 79(f)) and determined, based on its designation reviews, that the following agencies are qualified to provide official services in the specific geographic areas and timeframes noted below:

Official agency | Designated area is described in: | Designation start | Designation end
Amarillo Grain Exchange, Inc., Amarillo, TX, 806-372-8511 | 86 FR 10530 (2/22/2021) | 10/1/2021 | 9/30/2026
J.W. Barton Grain Inspection Service, Inc., Owensboro, KY, 270-683-0616 | 86 FR 58247 (10/21/2021) | 4/1/2022 | 3/31/2027
Cairo Grain Inspection Agency, Inc., Cairo, IL, 618-734-0689 | 86 FR 10530 (2/22/2021) | 10/1/2021 | 9/30/2026
Champaign-Danville Grain Inspection Department, Urbana, IL 217-344-9306 | See Appendix A in this notice | 4/1/2021 | 3/31/2026
Detroit Grain Inspection Service, Inc., Sandusky, MI, 810-404-3786 | 86 FR 10530 (2/22/2021) | 4/1/2021 | 3/31/2026
Eastern Iowa Grain Inspection Company, Inc., Davenport, IA, 563-322-7149 | 86 FR 10530 (2/22/2021) | 4/1/2021 | 3/31/2026
Enid Grain Inspection Company, Enid, OK, 580-233-1122 | 86 FR 10530 (2/22/2021) | 4/1/2021 | 3/31/2026
Farwell Commodity and Grain Services, Inc., Casa Grande, AZ, 520-560-1674 | 86 FR 58247 (10/21/2021) | 4/1/2022 | 3/31/2027
Fremont Grain Inspection Department, Inc., Fremont, NE, 402-721-1270 | 86 FR 10530 (2/22/2021) | 7/1/2021 | 6/30/2026
Keokuk Grain Inspection Service, Keokuk, IA, 319-524-4695 | 86 FR 10530 (2/22/2021) | 4/1/2021 | 3/31/2025
Louisiana Department of Agriculture and Forestry, Baton Rouge, LA, 318-428-0116 | 86 FR 10530 (2/22/2021) | 10/1/2021 | 9/30/2026
Maryland Department of Agriculture, Annapolis, MD, 410-841-5769 | 86 FR 10530 (2/22/2021) | 7/1/2021 | 6/30/2026
Michigan Grain Inspection Services, Inc., Marshall, MI, 269-781-2711 | 86 FR 10530 (2/22/2021) | 4/1/2021 | 3/31/2024
North Carolina Department of Agriculture, Raleigh, NC, 919-733-4491 | 86 FR 10530 (2/22/2021) | 10/1/2021 | 9/30/2026
North Dakota Grain Inspection Services, Inc., Fargo, ND, 701-293-7420 | See Appendix A in this notice | 1/1/2021 | 12/31/2025
Northeast Indiana Grain Inspection, Inc., Decatur, IN, 260-341-7497 | 86 FR 58247 (10/21/2021) | 1/1/2022 | 12/31/2026
Northern Plains Grain Inspection Service, Inc., Grand Forks, ND, 701-772-2414 | 86 FR 58247 (10/21/2021) | 4/1/2022 | 3/31/2027
Omaha Grain Inspection Service, Inc., Council Bluffs, IA, 712-256-2590 | 86 FR 10530 (2/22/2021) | 4/1/2021 | 3/31/2026
Plainview Grain Inspection and Weighing Service, Inc., Plainview, TX, 806-293-1364 | 86 FR 58247 (10/21/2021) | 4/1/2022 | 3/31/2027
D.R. Schaal Agency, Inc., Belmond, IA, 641-444-3122 | See Appendix A in this notice | 10/1/2021 | 9/30/2026
Sioux City Inspection and Weighing Service Company, Sioux City, IA, 712-255-0959 | See Appendix A in this notice | 4/1/2022 | 3/31/2027
State Grain Inspection, Inc., Savage, MN, 952-808-8566 | 86 FR 58247 (10/21/2021) | 1/1/2022 | 12/31/2026
Utah Department of Agriculture and Food, Ogden, UT, 801-392-2292 | 86 FR 10530 (2/22/2021) | 10/1/2021 | 9/30/2026

Sec. 7(f) of the USGSA authorizes the Secretary to designate a qualified applicant to provide official services in a specified area after determining that the applicant is better able than any other applicant to provide such official services (7 U.S.C. 79(f)). A designated agency may provide official inspection services and/or Class X or Class Y weighing services at locations other than port locations. Under sec. 7(g) of the USGSA, designations of official agencies are effective for no longer than five years, unless terminated by the Secretary, and may be renewed according to the criteria and procedures prescribed in sec. 7(f) of the USGSA. See also 7 CFR 800.196 for further information and guidance. If you would like to view the applications for these areas, please contact FGISQACD@usda.gov.

Please note that sampling, weighing, and inspection services may be offered by designated agencies under the Agricultural Marketing Act of 1946 for other commodities under the auspices of FGIS through separate cooperative agreements with AMS. The service area for such cooperative agreements mirrors the USGSA designation area. For further information, see 7 U.S.C. 1621 et seq. or contact FGISQACD@usda.gov.

Appendix A—Geographic Area Updates

Following are the updated geographic area descriptions, which are included as “Appendix A” in the documentation provided to those agencies designated to provide services in these areas.

Champaign:

Appendix A—Assigned Geographic Area

Champaign-Danville Grain Inspection Departments, Inc.

Designation Issued: April 01, 2021

Designation Amended: May 31, 2022

Pursuant to Section 79(f)(2) of the United States Grain Standards Act, the following geographic area, in the States of Illinois, Indiana, and Michigan, is assigned to this official agency.

In Illinois

Bounded on the north by the northern Schuyler, Cass, and Menard County lines; the western Logan County line north to State Route 10; State Route 10 east to the west side of Beason; bounded on the east by a straight line from the west side of Beason southwest to Elkhart on Interstate 55; a straight line from Elkhart southeast to Stonington on State Route 48; a straight line from Stonington southwest to Irving on State Route 16; bounded on the south by State Route 16 west to the eastern Macoupin County line; the eastern, southern, and western Macoupin County lines; the southern and western Greene County lines; the southern Pike County line; and bounded on the west by the western Pike County line west to U.S. Route 54; U.S. Route 54 northeast to State Route 107; State Route 107 northeast to State Route 104; State Route 104 east to the western Morgan County line; the western Morgan, Cass, and Schuyler County lines.

In Illinois and Indiana

Bounded on the north by the northern Livingston County line from State Route 47; the eastern Livingston County line to the northern Ford County line; the northern Ford and Iroquois County lines east to Interstate 57; Interstate 57 north to the northern Will County line; bounded on the north by the northern Will County line from Interstate 57 east to the Illinois-Indiana State line; the Illinois-Indiana State line north to the northern Lake County line; the northern Lake, Porter, Laporte, St. Joseph, and Elkhart County lines; bounded on the east by the eastern and southern Elkhart County lines; the eastern Marshall County line; bounded on the south by the southern Marshall County line; the eastern and southern Pulaski County lines; the eastern and southern White County lines; the eastern Benton County line; the eastern and southern Warren County lines west to U.S. Route 41; bounded on the east by U.S. Route 41 south to the northern Parke County line; the northern Parke and Putnam County lines; the eastern Putnam, Owen, and Greene County lines; bounded on the south by the southern Greene County line; the southern Sullivan County line west to U.S. Route 41(150); U.S. Route 41(150) south to U.S. Route 50; U.S. Route 50 west across the Indiana-Illinois State line to Illinois State Route 33; Illinois State Route 33 north and west to the Western Crawford County line; and bounded on the west by the western Crawford and Clark County lines; the southern Coles County line; the western Coles and Douglas County lines; the western Champaign County line north to Interstate 72; Interstate 72 southwest to the Piatt County line; the western Piatt County line; the southern McLean County line west to a point 10 miles west of the western Champaign County line, from this point through Arrowsmith to Pontiac along a straight line running north and south which intersects with State Route 116; State Route 116 east to State Route 47; State Route 47 north to the northern Livingston County line.

In Michigan

Berrien, Cass, and St. Joseph Counties.

Champaign's assigned geographic area does not include the export port locations inside Champaign's area, which are serviced by FGIS.

The following grain elevators are part of this geographic area assignment. In Mid-Iowa Grain Inspection Inc.'s area: Okaw Cooperative, Cadwell, Moultrie County; ADM (3 elevators), Farmer City, Dewitt County; and Topflight Grain Company, Monticello, Piatt County, Illinois, and East Lincoln Farmers Grain Co., Lincoln, Logan County, Illinois.

North Dakota

Appendix A—Assigned Geographic Area

North Dakota Grain Inspection Service, Inc.

Designation Issued: January 01, 2021

Designation Amended: May 31, 2022

Pursuant to Section 79(f)(2) of the United States Grain Standards Act, the following geographic area, in the States of Illinois, Indiana, Michigan, Minnesota, North Dakota, and Ohio is assigned to this official agency.

In Illinois

Bounded on the east by the eastern Cumberland County line; the eastern Jasper County line south to State Route 33; State Route 33 east-southeast to the Indiana-Illinois State line; the Indiana-Illinois State line south to the southern Gallatin County line; bounded on the South by the southern Gallatin, Saline, and Williamson County lines; the southern Jackson County line west to U.S. Route 51; U.S. Route 51 north to State Route 13; State Route 13 northwest to State Route 149; State Route 149 west to State Route 3; State Route 3 northwest to State Route 51; State Route 51 south to the Mississippi River; and bounded on the west by the Mississippi River north to the northern Calhoun County line; bounded on the north by the northern and eastern Calhoun County lines; the northern and eastern Jersey County lines; the northern Madison County line; the western Montgomery County line north to a point on this line that intersects with a straight line, from the junction of State Route 111 and the northern Macoupin County line to the junction of Interstate 55 and State Route 16 (in Montgomery County); from this point southeast along the straight line to the junction of Interstate 55 and State Route 16; State Route 16 east-northeast to a point approximately 1 mile northeast of Irving; a straight line from this point to the northern Fayette County line; the northern Fayette, Effingham, and Cumberland County lines.

In Indiana

Bartholomew, Blackford, Boone, Brown, Carroll, Cass, Clinton, Delaware, Fayette, Fountain (east of U.S. Route 41), Fulton (bounded on east by eastern Fulton County line south to State Route 19; State Route 19 south to State Route 114; State Route 114 southeast to eastern Fulton County line), Grant, Hamilton, Hancock, Hendricks, Henry, Howard, Jay, Johnson, Madison, Marion, Miami, Monroe, Montgomery, Morgan, Randolph, Richmond, Rush (north of State Route 244), Shelby, Tippecanoe, Tipton, Union, and Wayne Counties.

In Michigan

Bounded on the west by State Route 127 at the Michigan-Ohio State line north to State Route 50; bounded on the north by State Route 50 at State Route 127 east to the Michigan State line; the Michigan state line south to the Michigan-Ohio State line.

In Minnesota

Koochiching, St. Louis, Lake, Cook, Itasca, Norman, Mahnomen, Hubbard, Cass, Clay, Becker, Wadena, Crow Wing, Aitkin, Carlton, Wilkin, and Otter Tail Counties, except those export port locations within the State, which are serviced by FGIS.

In North Dakota

Bounded on the north by the northern Steele County line from State Route 32 east; the northern Steele and Trail County lines east to the North Dakota State line; bounded on the east by the eastern North Dakota State line; bounded on the south by the southern North Dakota State line west to State Route 1; and bounded on the west by State Route 1 north to Interstate 94; Interstate 94 west to State Route 1; State Route 1 north to State Route 200; State Route 200 east to State Route 45; State Route 45 north to State Route 32; State Route 32 north.

In Ohio

The northern Ohio State line east to the to the Ohio Pennsylvania State line; bounded on the east by the Ohio-Pennsylvania State line south to the Ohio River; bounded on the south by the Ohio River south-southwest to the western Scioto County line; and bounded on the west by the western Scioto County line north to State Route 73; State Route 73 northwest to U.S. Route 22; U.S. Route 22 west to U.S. Route 68; U.S. Route 68 north to Clark County; the northern Clark County line west to Valley Pike Road; Valley Pike Road north to State Route 560; State Route 560 north to U.S. 36; U.S. 36 west to eastern Miami County Line; eastern Miami County Line to northern Miami County Line; northern Miami County Line west to Interstate 75; Interstate 75 north to State Route 47; State Route 47 northeast to U.S. Route 68 (including all of Sidney, Ohio); U.S. Route 68 north to the southern Hancock County line; the southern Hancock County line west to the western Hancock, Wood and Lucas County lines north to the Michigan-Ohio State line; the Michigan-Ohio State line west to State Route 127; plus all of Darke County.

North Dakota's assigned geographic area does not include the export port locations inside the State of Ohio area which are serviced by FGIS.

Schaal

Appendix A—Assigned Geographic Area

D.R. Schaal Agency, Inc.

Designation Issued: October 01, 2021

Designation Amended: April 01, 2022

Pursuant to Section 7(f)(2) of the United States Grain Standards Act, the following geographic area, in the States of Georgia, Iowa, Minnesota, New Jersey, New York, and South Carolina, is assigned to this official agency.

In Georgia

The entire State, except those export port locations within the State, which are serviced by FGIS.

In Iowa

Bounded on the north by the northern Kossuth County line from U.S. Route 169; the northern Winnebago, Worth, and Mitchell County lines; bounded on the east by the eastern Mitchell County line; the eastern Floyd County line south to B60; B60 west to T64; T64 south to State Route 188; State Route 188 south to C33; bounded on the south by C33 west to T47; T47 north to C23; C23 west to S56; S56 south to C25; C25 west to U.S. Route 65; U.S. Route 65 south to State Route 3; State Route 3 west to S41; S41 south to C55; C55 west to Interstate 35; Interstate 35 southwest to the southern Wright County line; the southern Wright County line west to U.S. Route 69; U.S. Route 69 north to C54; C54 west to State Route 17; and bounded on the west by State Route 17 north to the southern Kossuth County line; the Kossuth County line west to U.S. Route 169; U.S. Route 169 north to the northern Kossuth County line.

In Minnesota

Faribault, Freeborn, and Mower Counties.

In New Jersey

The entire State, except those export port locations within the State, which are serviced by FGIS.

In New York

The entire State, except those export port locations within the State, which are serviced by FGIS.

In South Carolina

Abbeville, Aiken, Allendale, Anderson, Bamberg, Barnwell, Beaufort, Berkeley, Calhoun, Charleston, Clarendon, Colleton, Dorchester, Edgefield, Fairfield, Georgetown, Greenwood, Hampton, Jasper, Laurens, Lexington, McCormick, Newberry, Oconee, Orangeburg, Richland, Saluda, Sumter, and Williamsburg Counties. Export port locations within the State, are serviced by FGIS.

Sioux City

Appendix A—Assigned Geographic Area

Sioux City Inspection and Weighing Service Company

Designation Issued: April 01, 2022

Pursuant to Section 79(f)(2) of the United States Grain Standards Act, the following geographic area, in the States of Iowa, Minnesota, Nebraska, and South Dakota, is assigned to this official agency.

In Iowa

Bounded on the north by the northern Iowa State line from the Big Sioux River east to U. S. Route 169; bounded on the east by U.S. Route 169 south to State Route 9; State Route 9 west to U.S. Route 169; U.S. Route 169 south to the northern Humboldt County line; the Humboldt County line east to State Route 17; State Route 17 south to C54; C54 east to U.S. Route 69; U.S. Route 69 south to the northern Hamilton County line; northern Hamilton County line east to Interstate 35; Interstate 35 northeast to C55; C55 east to S41; S41 north to State Route 3; State Route 3 to east U.S. Route 65; U.S. Route 65 north to C25; C25 east to S56; S56 north to C23; C23 east to T47; T47 south to C33; C33 east to T64; T64 north to B60; B60 east to U.S. Route 218; U.S. Route 218 north to Chickasaw County; the western Chickasaw County line; and the western and northern Howard County lines; bounded on the east by the eastern Howard and Chickasaw County lines; the eastern and southern Bremer County lines; V49 south to D38; D38 west to State Route 21; State Route 21 south to State Route 8; State Route 8 west to U.S. Route 63; U.S. Route 63 south to Interstate 80; Interstate 80 east to the Poweshiek County line; the eastern Poweshiek, Mahaska, Monroe, and Appanoose County lines; bounded on the south by the southern Appanoose, Wayne, Decatur, Ringgold, and Taylor County lines; bounded on the west by the western Taylor County line; the southern Montgomery County line west to State Route 48; State Route 48 north to M47; M47 north to the Montgomery County line; the northern Montgomery County line; the western Cass and Audubon County Lines; the northern Audubon County line east to U.S. Route 71; U.S. Route 71 north to the southern Sac and Ida County lines; the eastern Monona County line south to State Route 37; State Route 37 west to State Route 175; State Route 175 west to the Missouri River; and bounded on the west by the Missouri River north to the Big Sioux River; the Big Sioux River north to the northern Iowa State line.

In Minnesota

Yellow Medicine, Renville, Lincoln, Lyon, Redwood, Pipestone, Murray, Cottonwood, Rock, Nobles, Jackson, and Martin Counties.

In Nebraska

Cedar, Dakota, Dixon, Pierce (north of U.S. Route 20), and Thurston Counties.

In South Dakota

Bounded on the north by State Route 44 (U.S. 18) east to State Route 11; State Route 11 south to A54B; A54B east to the Big Sioux River; Bounded on the East by the Big Sioux River; and bounded on the south and west by the Missouri River. The following grain elevators are not part of this geographic area assignment and are assigned to Omaha Grain Inspection Service, Inc.: Scoular Elevator, Elliot, Montgomery County and two Scoular elevators, Griswold, Cass County, Iowa.

Authority: 7 U.S.C. 71-87k.

Melissa Bailey,
Associate Administrator, Agricultural Marketing Service.

[FR Doc. 2022-24519 Filed 11-9-22; 8:45 am]

BILLING CODE P